DEPARTMENT OF THE INTERIOR

Bureau of Land Management

[OR-054-1220-DC; GP0-0260

John Day River Proposed Management Plan, Two Rivers and John Day Resource Management Amendments and Final Environmental Impact Statement

AGENCY: Bureau of Land Management, Central Oregon Field Office, Prineville District, Interior.

ACTION: Notice of availability of Final Environmental Impact Statement.

SUMMARY: In compliance with the National Environmental Policy Act (NEPA) of 1969 and 40 CFR 1506.6(2) notice is hereby given that the Bureau of Land Management (BLM) has prepared a Final Environmental Impact Statement (EIS) for the John Day River Proposed Management Plan, Two Rivers and John Day Resource Management Amendments. This plan area covers designated Wild and Scenic Rivers on the lower Mainstem and South Fork of the John Day River and BLM managed lands on the Mainstem, South, Middle, and North Forks of the John Day River not designated Wild and Scenic in several counties in the North Eastern portion of Oregon.

Interested citizens not already on the mailing list may review the Final EIS via the internet on the Prineville BLM website at http://www1.or.blm.gov/Prineville/. A hardcopy or a CDROM of the EIS may be requested from the Prineville District by calling (541) 416-6700.

The planning process includes an opportunity for an administrative review of the plan amendment. If you believe approval of any provision of this proposed planning amendment would be in error, you may submit a plan protest to the Bureau of Land Management (BLM) Director (43 CFR 1610.52). Careful adherence to these guidelines as summarized below, will assist in preparing a protest that will assure consideration of your point of view.

Only those persons or organizations that participated in the planning process leading to this plan amendment may protest. If our records indicate that you had no involvement in any state in the preparation of this document, your protest will be dismissed without further review. Further, a protesting party may raise only those issues that he or she submitted for the record during the planning process.

To be considered timely, your protest must be postmarked no later than the last day of the protest period. Also, although not a requirement, we suggest that you send your protest by certified mail, return receipt requested.

Protest must be filed in writing to: Director, (WO-210), Bureau of Land Management, US Department of the Interior, Attn; Brenda Williams, 1849 C Street, NW., Washington, D.C. 20240.

To be considered complete, your protest must contain, at a minimum, the following information:

• Name, mailing address, telephone number, and the affected interest of person filing the protests.

• A statement of the issue or issues being protested.

• A statement of the part or parts of the planning amendment being protested. To the extent possible, reference specific pages, paragraphs. And sections of the document.

• A copy of all document addressing the issue or issues were discussed with BLM for the record.

• A concise statement explaining why the proposed decision is believed to be incorrect.

This is a critical part of your protest. Document all relevant facts. As much as possible, reference or cite the planning and environmental analysis documents. A protest that merely expresses disagreement with the State Director's proposed decision, without any data will not provide us with the benefit of your information and insight. In this case, the Director's review will be based on the existing analysis and supporting data.

DATES: The BLM will make a decision on the Management Plan and Resource Management Plan Amendments after review of protests (if any) that must be filed within 30 days of the Notice of Availability published by the EPA in the FR or by August 14, 2000, whichever is later.

FOR FURTHER INFORMATION CONTACT: Michael Williams, Prineville BLM at (541) 416-6862 or Dan Wood, Prineville BLM at (541) 416-6751.

SUPPLEMENTARY INFORMATION: As required by the Wild and Scenic Rivers Act of 1969 as amended in 1982 and 1987, 16 U.S.C. 12749(d), and by 40 CFR 1502.3 the BLM has examined a Range of Alternatives for managing the segments of the North Fork and lower mainstream of the John Day River that Congress Designated Wild and Scenic. In addition to this plan includes proposed decisions for managing public lands adjacent to the John Day River and its major tributaries that have not been designated Wild and Scenic but could influence the outstandingly remarkable values associated with the designated segments.

The proposed John Day River Management Plan and Final Environmental Impact Statement considered at least five alternatives for managing various resources and programs along over 200 river bank miles of the John Day River System. The John Day River is one of the longest free flowing river systems in the continental United States. The John Day watershed is located in the northeastern Oregon and encompasses all or portions of eleven counties, six of which would be directly affected by the proposed plan. This document has divided the John Day River system into 11 different segments for management purposes. Congress designated six of these segments (totaling 248.6 miles) as Wild and Scenic in 1988. This legislation also mandated a management plan be written in cooperation with the State of Oregon and affected native American Tribes. Consequently, this plan was written as a cooperative effort between the following agencies, and groups, collectively, known as the “partners”: BLM, State of Oregon, Confederated Tribes of Warm Springs Reservation of Oregon USDI Bureau of Indian Affairs and John day River Coalition of Counties (Gilliam, Grant, Jefferson, Sherman, Wasco, and Wheeler Counties).

A draft of this document was released for a 90 day public review and comment period on December 3, 1999. Comments received helped the partners develop the proposed decisions in this plan. Major issues addressed by this plan include livestock grazing, boating use levels, commercial services, motorized boating, and public agricultural lands and related water use. Many other issues are also addressed by this plan and proposed decisions are made for each issue. They are displayed with alternatives considered. Alternative A describes the existing management situation for each resource of use (no action). The other alternatives were designed to protect and enhance the outstanding remarkable values which Congress identified for the designated Wild and Scenic segments and to protect and enhance similar river values for certain non-designated segments. Chapter IV of this document presents rulemaking by the State of Oregon for the State Scenic Waterway segments of the John Day River, most of which overlaps with designated Wild and Scenic Segments.

This proposed plan describes certain restrictions on each livestock grazing allotment along the segments designated Wild and Scenic and certain segments not so designated where they are situated in a way that directly affects the designated segments. Boating use levels and motorized boating restrictions, which vary by river segment, are proposed. Short and long-term strategies for management of commercial outfitter and guide permits are proposed for the river. Several small tracts of BLM administered irrigated agricultural lands are to be converted from commercial use to provide wildlife habitat and native vegetation. Any decisions which reallocate land uses or change major resource allocations would also amend or revise the BLM's Two Rivers and John Day Resource Management Plans under 43 CFR 1610.5-5 or 5-6.

Dated: June 30, 2000.
Donald L. Smith,
Acting Prineville District Manager.

[FR Doc. 00-17480 Filed 7-10-00; 8:45 am]

BILLING CODE 4310-33-M